NATIONAL SCIENCE FOUNDATION

National Science Board Public Service Award Committee; Notice of Meeting

In accordance with the Fedearl Advisory Committee Act (Pub. L. 92-463, as amended), the National Science Foundation announces the following meeting:

Name: National Science Board Public Service Award (5195).

Date and Time: Monday, January 22, 2007, 10:30 a.m. EST (teleconference meeting).

Place: The teleconference will originate from the National Science Board Office, National Science Foundation, 4201 Wilson Blvd., Arlington, Virginia 22230.

Type of Meeting: Closed.

Contact Person: Ms. Ann Noonan, National Science Board Office, National Science Foundation, 4201 Wilson Blvd, Arlington, VA 22230. Telephone: 703-292-7000.

Purpose of Meeting: To provide advice and recommendations in the selection of the NSB Public Service Award recipients.

Agenda: To review and evaluate grant applications.

Reason for Closing: The nominations being reviewed include information of a personal nature where public disclosure would constitute clearly unwarranted invasions of personal privacy. These matters are exempt 5 U.S.C. 552b(c)(6) of the Government in Sunshine Act.

Dated: December 21, 2006.
Susanne Bolton,
Committee Management Officer.

[FR Doc. 06-9899 Filed 12-27-06; 8:45 am]

BILLING CODE 7555-01-M